DEPARTMENT OF THE INTERIOR

Office of the Secretary; Renewal of Trinity River Adaptive Management Working Group

AGENCY: Office of the Secretary, Interior.

ACTION: Notice of renewal.

SUMMARY: We are publishing this notice in accordance with the requirements of the Federal Advisory Committee Act (FACA). The Secretary of the Interior, after consultation with the General Services Administration, hereby renews the Trinity River Adaptive Management Working Group (Working Group) for 2 years. The Working Group provides recommendations on all aspects of the implementation of the Trinity River Restoration Program and affords stakeholders the opportunity to give policy, management, and technical input concerning Trinity River restoration efforts.

FOR FURTHER INFORMATION CONTACT: Randy Brown, Fish and Wildlife Service, 1655 Heindon Road, Arcata, CA 95521, 707-822-7201.

SUPPLEMENTARY INFORMATION: The Working Group conducts its operations in accordance with the provisions of FACA (5 U.S.C. App.). It reports to the Trinity River Management Council and functions solely as an advisory body. The Working Group provides recommendations and advice to the Trinity Management Council on: (1) The effectiveness of management actions in achieving restoration goals and alternative hypotheses (methods and strategies) for study, (2) the priority for restoration projects, (3) funding priorities, and (4) other components of the Trinity River Restoration Program.

Working Group members represent the varied interests associated with the Trinity River Restoration Program. Members are selected from, but not limited to, Trinity County residents, recreational and commercial fishermen, commercial and recreational boaters, power/utility companies, agricultural water users, private and commercial timber producers, ranchers and people with grazing rights/permits, tribes, environmental organizations, and Federal, State, and local agencies with responsibilities in the Trinity River Basin. Members must be senior representatives of their respective constituent groups with knowledge of the Trinity River Restoration Program, including the Adaptive Environmental Assessment and Management Program.

Fifteen days after publication of this notice in the Federal Register, we will file a copy of the Working Group's charter with the Committee Management Secretariat, General Services Administration; Committee on Environment and Public Works, United States Senate; Committee on Resources, United States House of Representatives; and the Library of Congress.

Certification

I hereby certify that the Trinity River Adaptive Management Working Group is necessary and is in the public interest in connection with the performance of duties imposed on the Department of the Interior by Public Laws 84-386 and 96-335 (Trinity River Stream Rectification Act), 98-541 and 104-143 (Trinity River Basin Fish and Wildlife Management Act of 1984, and 102-575 (The Central Valley Improvement Act). The Working Group will assist the Department of the Interior by providing advice and recommendations on all aspects of implementation of the Trinity River Restoration Program.

Dated: October 17, 2006.
Dirk Kempthorne,
Secretary of the Interior.

[FR Doc. E6-17831 Filed 10-24-06; 8:45 am]

BILLING CODE 4310-55-P